DEPARTMENT OF THE INTERIOR

Bureau of Land Management

[LLNML00000 L16440000.NU0000 LXAMPPLN0000 234L1109AF]

Notice of Temporary Closure of Public Lands in Doña Ana County, NM

AGENCY: Bureau of Land Management, Interior.

ACTION: Notice of temporary closure.

SUMMARY: Notice is hereby given that the Bureau of Land Management (BLM) Las Cruces District Office is implementing the following closure to all public use within the area known as Community Pit No. 1 in Doña Ana County, New Mexico, including casual use (defined as any short-term, non-commercial activity that does not noticeably damage or disturb public lands, resources, or improvements), due to public safety concerns. Specifically, the closure is needed to reduce or prevent the opportunity for damage to property, personal injury, or loss of life from unstable conditions such as 150-foot-high walls.

DATES: The area specified below will be closed until reclamation of the site is completed or, July 7, 2025 whichever comes first. In the interim, the BLM will mitigate the safety issues in this area as reclamation of the site proceeds.

ADDRESSES: This temporary closure order will be posted in the BLM Las Cruces District Office, 1800 Marquess Street, Las Cruces, NM 88005-3371. Maps of the affected area and other documents associated with this temporary closure are available at the Las Cruces District Office.

FOR FURTHER INFORMATION CONTACT: Anthony Hom, Supervisory Lands and Minerals Resources Specialist, 1800 Marquess Street, Las Cruces, New Mexico 88005; email: ahom@blm.gov, or telephone: (575) 525-4300. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Las Cruces District Office has completed an environmental assessment (DOI-BLM-NM-L000-2010-0086-EA) and a determination of NEPA adequacy (DOI-BLM-NM-L000-2023-0005-DNA) to close the area to public use, evaluating the potential reclamation of the site and analyzing the hazards to public health and safety until such time as reclamation of the site would be completed.

Description of Closed Area

The public lands to be closed under this notice are described as:

New Mexico Meridian

T. 22 S., R. 1 E., Sec. 19,

SW¼NW1/4SE¼, SW¼SW¼SE¼NW¼SE¼, SE¼SW¼SE¼NW¼SE¼,

SW¼SE¼SE¼NW¼SE¼, SE¼SE¼SE¼NW¼SE¼, SW¼SE¼,

SW¼NE¼SE¼SE¼, SE¼NE¼SE¼SE¼, NW¼NW¼SE¼SE¼, SW¼NW¼SE¼SE¼, SE¼NW¼SE¼SE¼, SW¼SE¼SE¼, SE¼SE¼SE¼

Doña Ana County, New Mexico, totaling 85 acres.

All public use, including casual use, is prohibited on this 85-acre parcel.

Exceptions to Closure

This closure does not affect the ability of local, State, or Federal officials in the performance of their duties in the area, including the discharge of firearms. This notice will be posted along the roads and trails near and within the area where this closure is in effect. The following persons are exempt from this closure order:

a. Federal, State, or local law enforcement officers, while acting within the scope of their official duties;

b. Any person who obtains, or currently is in possession of, an authorization or permit from the BLM for use of the land identified in this closure; and

c. Users of Prehistoric Trackways National Monument Loop Road, Presidential Staircase Road, and the Arroyo Trail, who may continue to use these routes to traverse the closure area; however, users must stay on those designated roads and trails.

Enforcement

Violations of these closures and restrictions are punishable by fines in accordance with 18 U.S.C. 3571, imprisonment not to exceed one year, or both. These actions are taken to protect public health and safety.

Authority: 43 CFR 8364.1

David Wallace,
Acting BLM Las Cruces District Manager.

[FR Doc. 2023-14159 Filed 7-3-23; 8:45 am]

BILLING CODE 4331-23-P